DEPARTMENT OF COMMERCE

International Trade Administration

[A-588-841]

Vector Supercomputers From Japan: Notice of Initiation and Preliminary Results of Changed Circumstances Review of the Antidumping Order and Intent To Revoke Order

AGENCY: Import Administration, International Trade Administration, Department of Commerce.

ACTION: Notice of initiation and preliminary results of changed circumstances antidumping duty review, and intent to revoke order.

SUMMARY: In accordance with 19 CFR 351.216(b), Cray Inc. (“Cray”) filed a request for changed circumstances review of the antidumping order on vector supercomputers from Japan. Domestic producers of the like product have expressed no interest in continuation of the order with respect to these particular vector supercomputers. In response to Cray's request, the Department of Commerce (“the Department”) is initiating a changed circumstances review with respect to the request and issuing a notice of intent to revoke the antidumping duty order on vector supercomputers from Japan. Interested parties are invited to comment on these preliminary results.

EFFECTIVE DATE: March 13, 2001.

FOR FURTHER INFORMATION CONTACT: Mark Young, AD/CVD Enforcement, Office VI, Group II, Import Administration, International Trade Administration, U.S. Department of Commerce, 14th Street and Constitution Avenue, NW., Washington, DC 20230; telephone: (202) 482-6397.

The Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations as codified at 19 CFR part 351 (2000).

SUPPLEMENTARY INFORMATION:

Background

On February 27, 2001, Cray requested that the Department conduct a changed circumstances review and revoke the antidumping duty order on vector supercomputers from Japan, retroactive to October 1, 2000. In their February 27, 2001 request, Cray claims that it is the only U.S. producer of vector supercomputers and was the sole petitioner in the antidumping investigation that led to the antidumping order. Further, Cray states that it no longer has an interest in maintaining this order.

Scope of Review

The scope of this order consists of all vector supercomputers, whether new or used, and whether in assembled or unassembled form, as well as vector supercomputer spare parts, repair parts, upgrades, and system software, shipped to fulfill the requirements of a contract entered into on or after October 16, 1997, for the sale and, if included, maintenance of a vector supercomputer. A vector supercomputer is any computer with a vector hardware unit as an integral part of its central processing unit boards.

In general, the vector supercomputers imported from Japan, whether assembled or unassembled, covered by this order are classifiable under heading 8471 of the Harmonized Tariff Schedules of the United States (“HTS”). Merchandise properly classified under HTS numbers 8471.10 and 8471.30, however, is excluded from the scope of this order. Although, these references to the HTS are provided for convenience and customs purposes, our written description of the scope of this order is dispositive.

Initiation of Changed Circumstances Antidumping Duty Administrative Review and Intent To Revoke Order

Pursuant to sections 751(d)(1) and 782(h)(2) of the Act, the Department may revoke an antidumping or countervailing duty order, in whole or in part, based on a review under section 751(b) of the Act (i.e., a changed circumstances review). Section 751(b)(1) of the Act requires a changed circumstances review to be conducted upon receipt of a request which shows changed circumstances sufficient to warrant a review. Section 351.222(g) of the Department's regulations provides that the Department will conduct a changed circumstances administrative review under 19 CFR 351.216, and may revoke an order (in whole or in part), if it determines that producers accounting for substantially all of the production of the domestic like product have expressed a lack of interest in the relief provided by the order, in whole or in part, or if other changed circumstances sufficient to warrant revocation exist. In addition, in the event that the Department concludes that expedited action is warranted, 19 CFR 351.221(c)(3)(ii) permits the Department to combine the notices of initiation and preliminary results.

Cray is a domestic interested party as defined by section 771(9)(C) of the Act and 19 CFR 351.102(b). Cray indicated that it is the only U.S. producer of the domestic like product to which this order pertains. Therefore, based on the lack of interest by the domestic industry in the continued application of the antidumping duty order on vector supercomputers from Japan, we are initiating this changed-circumstances review. Further, based on the affirmative statement of no interest by Cray, we have determined that expedited action is warranted, and we are combining the notices of initiation and preliminary results.

We have preliminarily determined that the petitioner's statement of no interest in the continuation of the order constitutes changed circumstances sufficient to warrant revocation of the entire order. We are hereby notifying the public of our intent to revoke in whole the antidumping duty order on vector supercomputers from Japan, retroactive to October 1, 2000.

If final revocation of the order occurs, we intend to instruct the Customs Service to discontinue the suspension of liquidation and to refund any estimated antidumping duties collected for all unliquidated entries of vector supercomputers from Japan entered, or withdrawn from warehouse, for consumption on or after October 1, 2000. We will also instruct the Customs Service to pay interest on any refunds with respect to the subject merchandise entered, or withdrawn from warehouse, for consumption on or after, October 1, 2000, in accordance with section 778 of the Act. The current requirement for a cash deposit of estimated antidumping duties will continue until publication of the final results of this changed-circumstances review.

Public Comment

Interested parties are invited to comment on these preliminary results. Parties who submit argument in this proceeding are requested to submit with the argument (1) a statement of the issue, and (2) a brief summary of the argument. Parties to the proceeding may request a hearing within 14 days of publication. Any hearing, if requested, will be held no later than two days after the deadline for the submission of rebuttal briefs, or the first workday thereafter. Case briefs may be submitted by interested parties not later than 14 days after the date of publication of this notice. Rebuttal briefs and rebuttals to written comments, limited to the issues raised in those comments, may be filed not later than five days after the deadline for submission of case briefs. All written comments shall be submitted in accordance with 19 CFR 351.303 and shall be served on all interested parties on the Department's service list in accordance with 19 CFR 351.303. Persons interested in attending the hearing should contact the Department for the date and time of the hearing. The Department will publish the final results of this changed circumstances review, including the results of its analysis of issues raised in any written comments.

This notice is published in accordance with section 751(b)(1) of the Act and 19 CFR 351.216 and 351.222. Effective January 20, 2001, Bernard T. Carreau is fulfilling the duties of the Assistant Secretary for Import Administration.

Dated: March 6, 2001.
Bernard T. Carreau,
Deputy Assistant Secretary, Import Administration.

[FR Doc. 01-6224 Filed 3-12-01; 8:45 am]

BILLING CODE 3510-DS-P